DEPARTMENT OF TRANSPORTATION

Office of the Secretary

[Docket No. DOT-OST-2024-0005]

Office of the Chief Financial Officer and Assistant Secretary for Budget and Programs; U.S. Department of Transportation Learning Agenda Supplement: Fiscal Years 2024-2026

AGENCY: Office of the Secretary (OST), U.S. Department of Transportation (DOT).

ACTION: Request for information.

SUMMARY: The U.S. Department of Transportation (DOT)'s mission is to deliver the world's leading transportation system, serving the American people and economy through the safe, efficient, sustainable, and equitable movement of people and goods. Developing rigorous research and applying relevant evidence are essential components of the Department's success. On March 28, 2022, we published our first Department-wide Learning Agenda for Fiscal Years (FY) 2022-2026 (the “Learning Agenda”) in conjunction with the Department's FY 2022-2026 Strategic Plan (the “Strategic Plan”). The Learning Agenda was our first effort to identify priority evidence needs and propose research, evaluation activities, and data gathering to address those needs. As we've reached the mid-point of this Learning Agenda, the Department seeks to update it. With this Request for Information (RFI), DOT's Office of the Secretary (OST)'s Office of the Chief Financial Officer and Assistant Secretary for Budget and Programs seeks public input regarding potential updates to our published Learning Agenda. Information provided in response to this RFI will inform the development of the Learning Agenda Supplement: Fiscal Year 2024-2026 (“Learning Agenda Supplement”).

DATES: Comments are requested by April 09, 2024. See the SUPPLEMENTARY INFORMATION section on “Public Participation,” below for more information about written comments.

ADDRESSES:

Written Comments: Responses to this RFI are voluntary and may be submitted anonymously. Comments should refer to the docket number above and be submitted by one of the following methods:

• Federal Rulemaking Portal: Follow the online instructions at https://www.regulations.gov for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal Holidays.

Instructions: For detailed instructions on submitting comments and additional information on the rulemaking process, see the Public Participation heading of the SUPPLEMENTARY INFORMATION section of this document. Note that all comments received will be posted without change to https://www.regulations.gov, including any personal information provided.

Privacy Act: Except as provided below (“confidential business information”), all comments received into the docket will be made public in their entirety. The comments will be searchable by the name of the individual submitting the comment (or signing the comment, if submitted on behalf of an association, business, labor union, etc.). You should not include information in your comment that you do not want to be made public.

Docket: For access to the docket to read background documents or comments received, visit https://www.regulations.gov or the street address listed above. Follow the online instructions for accessing the dockets.

FOR FURTHER INFORMATION CONTACT: Please email PEER@dot.gov or call John D. Giorgis at (202) 366-6513 with questions. Office hours are from 8:30 a.m. to 5 p.m. EDT, Monday through Friday, except for Federal holidays.

SUPPLEMENTARY INFORMATION:

Background

The Foundations for Evidenced-Based Policymaking Act of 2018 ¹ requires many Federal agencies to create an evidence-building plan, referred to as a Learning Agenda, to identify and address questions relevant to the agency's programs, policies, and regulations.²

¹ Public Law 115-435, 132 Stat. 5529.

² 5 U.S.C. 312(a); Office of Mgmt. & Budget, Exec. Office of the President, OMB M-21-27: https://www.whitehouse.gov/omb/information-for-agencies/evidence-and-evaluation/.

The law further states that agencies “shall consult with stakeholders, including the public, agencies, State and local governments, and representatives of non-governmental researchers” when developing their Learning Agenda.³

³ 5 U.S.C. 312(c).

We published our FY 2022-2026 Learning Agenda in March 2022.⁴ In compliance with the Foundations for Evidenced-Based Policymaking Act of 2018, we review our Learning Agenda annually, allowing us to adjust as needed when new evidence is generated or as priorities shift. In our most recent annual review, we decided that it would be appropriate to update the Learning Agenda to incorporate our experiences from the last two years and additional feedback from our stakeholders.

⁴ Learning Agenda: https://www.transportation.gov/sites/dot.gov/files/2022-03/DOT_Learning_Agenda.pdf.

We also publish Annual Evaluation Plans (available at https://www.transportation.gov/budget) that describe the significant evaluation activities that we expect to launch each year as well as the major ongoing evaluation activities. To date, we have published Annual Evaluation Plans for FY 2023 and 2024.⁵

⁵ FY 2023 Evaluation Plan; FY 2024 Evaluation Plan: https://www.transportation.gov/budget.

The U.S. Department of Transportation (DOT) touches the lives of every person in the United States and its territories through its work to improve the safety and performance of our multi-modal transportation system. The Nation's transportation networks include two million miles of public roads, 110,000 miles of major railroads, 25,000 miles of commercially navigable waterways, 1.8 million miles of natural gas and oil pipelines, 5,200 public-use airports, and more than 3,000 operators of transit services.⁶

⁶ Hu, Patricia et al. (2022), Transportation Statistics Annual Report 2022, U.S. Department of Transportation, Bureau of Transportation Statistics, https://doi.org/10.21949/1528354; Federal Transit Administration (2022), Single Summary of Transit Report, https://www.transit.dot.gov/sites/fta.dot.gov/files/2024-01/2022-Single-Summary-of-Transit_v1_1.pdf.

Congress established DOT in 1967, consolidating 31 transportation-related agencies and functions. Approximately 55,000 DOT employees continue to bring innovations and integrity to the work of improving the safety and performance of our multi-modal transportation system. Leadership of the Department is provided by the Secretary of Transportation, who is the principal advisor to the President in all matters relating to Federal transportation programs. The Office of the Secretary oversees nine Operating Administrations, each with its own management and organizational structure. These nine Operating Administrations are:

—Federal Aviation Administration

—Federal Highway Administration

—Federal Motor Carrier Safety Administration

—Federal Railroad Administration

—Federal Transit Administration

—Great Lakes St Lawrence Seaway Development Corporation

—Maritime Administration

—National Highway Traffic Safety Administration

—Pipeline and Hazardous Material Safety Administration

Our Learning Agenda draws on work from across all nine of our Operating Administrations to identify key learning questions that support our strategic goals. The current Learning Agenda is organized around three sets of priority questions: Safety, Climate, and Equity. These priority questions are aligned with our FY 2022-2026 Strategic Plan ⁷ includes at least one area of focus:

⁷ Strategic Plan: https://www.transportation.gov/dot-strategic-plan.

• Safety Priority Questions

○ Focus Areas: Drug-Impaired Driving (Excluding Alcohol), Pedestrian and Cyclist Safety, Improving Aviation Safety and Efficiency

• Climate Priority Questions

○ Focus Area: Reducing Transportation Greenhouse Gas Emissions

• Equity Priority Questions

○ Focus Area: Equity in the DOT Workforce

This RFI is part of our stakeholder engagement to develop the Learning Agenda Supplement. The goal of the Supplement is to identify new research and data priorities not currently included in the Learning Agenda that, if answered, could advance DOT's mission and achieve the long-term goals in our Strategic Plan. We will publish the Learning Agenda Supplement on the DOT website.⁸

⁸ U.S. Department of Transportation: https://www.transportation.gov/.

The Learning Agenda Supplement can help us advance the strategic goals identified in our FY 2022-2026 Strategic Plan and our FY 2024-2025 Agency Priority Goals.⁹ Identifying evidence-building needs inherent to these plans will help guide us in developing the Learning Agenda Supplement.

⁹ FY 2024-2025 Agency Priority Goals: https://www.performance.gov/agencies/DOT/apg/fy-24-25/.

The FY 2022-2026 DOT Strategic Plan provides the roadmap for advancing the Department's mission. It describes the long-term goals that we aim to achieve, the actions that we will take to realize those goals, and how we will most effectively use resources. It also identifies six Strategic Goals, which are outcome-oriented, long-term goals for our major functions and operations: Safety, Economic Strength and Global Competitiveness, Equity, Climate and Sustainability, Transformation, and Organizational Excellence. Each Strategic Goal has associated Strategic Objectives, which express more specifically the impact DOT is trying to achieve. We also established numerous performance goals that define what success looks like for each Strategic Objective, which can be found in our FY 2024 Performance Plan and FY 2023 Performance Report.¹⁰

¹⁰ FY 2024 Performance Plan and FY 2023 Performance Report: Budget, Performance, and Finance | US Department of Transportation.

Our Agency Priority Goals (APG) are a performance accountability structure of the Government Performance and Results Act Modernization Act of 2010 that provides us with a mechanism to focus leadership priorities, set outcomes, and measure results. They elevate mission areas where we need to drive significant progress and change. Agency Priority Goal statements are outcome-oriented, ambitious, and measurable with specific targets set that reflect a near-term result or achievement that agency leadership wants to accomplish within approximately 24 months. The Agency Priority Goals identify officials responsible for goal achievement, and our leaders review performance on a quarterly basis to identify barriers to progress and make changes to implementation strategies to achieve goal outcomes. We set five Agency Priority Goals covering FY 2024-2025: Roadway Safety, Aviation Safety, High-Performing Core Assets, Equity, and National Electric Vehicle Charging Network (Joint with the Department of Energy).

The Learning Agenda Supplement: FY 2024-2026 can also support the evidence-building needs of the DOT's National Roadway Safety Strategy, the FAA Safety Call to Action and the Independent Aviation Safety Review Team's findings, the DOT's Equity Action Plan, and the U.S. National Blueprint for Transportation Decarbonization (NBTD). Identifying evidence-building needs related to these strategies and reports will inform the development of the Learning Agenda Supplement.

We released the National Roadway Safety Strategy in January 2022.¹¹ It outlines our comprehensive approach to significantly reducing serious injuries and deaths on our Nation's highways, roads, and streets aligned to our ambitious long-term goal of reaching zero roadway fatalities.

¹¹ National Roadway Safety Strategy: https://www.transportation.gov/NRSS.

In February 2023 we launched the FAA Safety Call to Action and in April 2023 established and appointed outside experts to the Independent Aviation Safety Review Team with the goal of ensuring that our structure continues to be fit for purpose for the U.S. aerospace system for both today and the future.¹² Safety guides everything we do, which is why reducing aviation safety risk remains a top priority. Aviation passengers expect and deserve the same level of safety wherever they fly. Over the past two decades, commercial aviation fatalities in the U.S. have decreased significantly. As a result of recent aviation incidents, we are taking a critical look at the U.S. aerospace system's structure, culture, processes, systems, and integration of safety efforts.

¹² FAA Safety Call to Action: https://www.faa.gov/aviation-safety-call-to-action; Independent Aviation Safety Review Team: https://www.faa.gov/newsroom/faa-establishes-independent-aviation-safety-review-team and https://www.faa.gov/NAS_safety_review_team_report.pdf.

We released our first Equity Action Plan in FY 2022, and we have updated it annually since then.¹³ The Equity Action Plan highlights work that we are undertaking, focused on wealth creation, power of community, interventions, and expanding access. The Equity Action Plan is a major milestone for the DOT and represents a shift in how we view and deliver transportation programs.

¹³ Equity Action Plan: https://www.transportation.gov/priorities/equity/equity-action-plan.

The U.S. National Blueprint for Transportation Decarbonization is a first-of-its-kind strategy for federal leadership and partnerships to decarbonize the entire U.S. transportation sector.¹⁴ Released in January 2023, the plan represents coordinated efforts between the departments of Transportation, Energy, Housing and Urban Development, and the Environmental Protection Agency to create a framework of strategies and actions to remove all emissions from the transportation sector by 2050.

¹⁴ U.S. National Blueprint for Transportation Decarbonization: https://www.energy.gov/sites/default/files/2023-01/the-us-national-blueprint-for-transportation-decarbonization.pdf.

Purpose of This Request for Information

The purpose of this RFI is to solicit information regarding new research and data priorities that should be considered for incorporation into the Learning Agenda Supplement, as well as adjustments to existing research and data priorities.

Through this RFI, we are asking interested persons, including stakeholders across public and private sectors who may be familiar with or interested in the work of our agency, for input on evidence-building activities that inform important priorities for our agency, including those that are also related to the President's broader priorities available at https://www.whitehouse.gov/priorities/. We also seek input on future projects that will advance our mission.

We will analyze information collected from this RFI to inform the development of the Learning Agenda Supplement. This RFI is for information and planning purposes only and should not be construed as a solicitation or as an obligation on our part. We will not respond to comments we receive in response to this RFI but will use the input to develop the Learning Agenda Supplement.

Specific Information Requested

We invite suggestions in various forms—as key questions to be answered, hypotheses to be tested, or problems to be investigated—that are focused on any area of our mission. The responses to this RFI will inform our ongoing updates and revisions to priorities that guide evidence-building activities.

We are particularly interested in receiving input from interested parties on the questions outlined below. In responding to these questions, interested parties should reference the Learning Agenda for FY 2022-2026, available at https://www.transportation.gov/sites/dot.gov/files/2022-03/DOT_Learning_Agenda.pdf.

1. Are there new priority learning questions (i.e., not already included in the DOT Learning Agenda) that reflect emerging or unanticipated needs and knowledge gaps and that, if answered, could help advance DOT's mission?

2. Are there new priority data needs (i.e., not already included in the DOT Learning Agenda) that reflect emerging or unanticipated needs and knowledge gaps and that, if addressed, could help advance DOT's mission?

3. Does the DOT Learning Agenda contain learning questions or data priorities that need to be adjusted either because priorities have shifted or because they have been addressed through evidence-building activities by DOT or others?

Public Participation

How do I prepare and submit comments?

To ensure that your comments are filed correctly, please include the docket number of this document (DOT-OST-2024-0005) in your comments.

Please submit one copy (two copies if submitting by mail or hand delivery) of your comments, including any attachments, to the docket following the instructions given above under ADDRESSES. Please note, if you are submitting comments electronically as a PDF (Adobe) file, we ask that the documents submitted be scanned using an Optical Character Recognition (OCR) process, thus allowing the Agency to search and copy certain portions of your submissions.

How do I submit confidential business information?

Any submissions containing Confidential Information must be delivered to DOT in the following manner:

• Submitted in a sealed envelope marked “confidential treatment requested”;

• Document(s) or information that the submitter would like withheld from the public docket should be marked “PROPIN”;

• Accompanied by an index listing the document(s) or information that the submitter would like the Departments to withhold. The index should include information such as numbers used to identify the relevant document(s) or information, document title and description, and relevant page numbers and/or section numbers within a document; and

• Submitted with a statement explaining the submitter's grounds for objecting to disclosing the information to the public.

DOT will treat such marked submissions as confidential under the FOIA and not include them in the public docket. DOT also requests that submitters of Confidential Information include a non-confidential version (either redacted or summarized) of those confidential submissions in the public docket. If the submitter cannot provide a non-confidential version of its submission, DOT requests that the submitter post a notice in the docket stating that it has provided DOT with Confidential Information. Should a submitter fail to docket either a non-confidential version of its submission or to post a notice that Confidential Information has been provided, we will note the receipt of the submission on the docket, with the submitter's organization or name (to the degree permitted by law) and the date of submission.

Will the Agency consider late comments?

DOT will consider all comments received before the close of business on the comment closing date indicated above under DATES. To the extent practicable, the Agency will also consider comments received after that date.

How can I read the comments submitted by other people?

You may read the comments received at the address given above under WRITTEN COMMENTS. The hours of the docket are indicated above in the same location. You may also see the comments on the internet, identified by the docket number at the heading of this notice, at http://www.regulations.gov.

Please note, this RFI is a planning document and will serve as such. The RFI should not be construed as policy, a solicitation for applications, or an obligation on the part of the government.

Issued in Washington, DC, on February 6, 2024.
Victoria Wassmer,
Assistant Secretary for Budget and Programs and Chief Financial Officer, U.S. Department of Transportation.

[FR Doc. 2024-02669 Filed 2-12-24; 8:45 am]

BILLING CODE 4910-9X-P